DEPARTMENT OF LABOR

Occupational Safety and Health Administration

29 CFR Part 1910

[Docket No. OSHA-2019-0001]

RIN 1218-AC93

Hazard Communication Standard

AGENCY: Occupational Safety and Health Administration (OSHA), Labor.

ACTION: Final rule; correction and technical amendment.

SUMMARY: OSHA is correcting several inadvertent errors in its Hazard Communication Standard (HCS) which were published in the Federal Register on May 20, 2024. The agency has identified several errors in the regulatory text and appendices to the HCS which pertain to the classification of hazardous chemicals and information presented on labels and Safety Data Sheets (SDSs). The agency believes these errors, although minor and primarily typographical in nature, should be addressed expeditiously to avoid confusion or unnecessary costs in the regulated community due to incorporation of errors on labels and SDSs. OSHA is continuing its review of the regulatory text and will issue another correction document to address additional minor errors at a later date.

DATES: October 9, 2024.

FOR FURTHER INFORMATION CONTACT:

For press inquiries: Mr. Frank Meilinger, Director, OSHA Office of Communications, U.S. Department of Labor; telephone: (202) 693-1999; email: meilinger.francis2@dol.gov.

For general and technical information: Tiffany DeFoe, Director, Office of Chemical Hazards, Metals, Directorate of Standards and Guidance, OSHA, Room N-3718, U.S. Department of Labor, 200 Constitution Avenue NW, Washington, DC 20210; email defoe.tiffany@dol.gov.

SUPPLEMENTARY INFORMATION:

I. Overview

On May 20, 2024, OSHA published a final rule updating and revising its Hazard Communication Standard (HCS) (89 FR 44144). The final rule became effective on July 19, 2024. This document corrects several minor errors in the final rule. The errors addressed by this correction occur in § 1910.1200, paragraphs (d) and (f) of the regulatory text and in appendices A, B, and C. These corrections reflect the agency's intent for the provisions of the final rule as explained in the preamble to the final rule. Some of these corrections are explained in the following discussion, and the table provided at the end of this section summarizes all the corrections included in this notice.

Two of the corrections are to the regulatory text. First, OSHA inadvertently mis-numbered portions of paragraph (d) in the final rule, resulting in erroneous cross-references in other areas of the standard (e.g., paragraph (f)(1) and appendix D, table D.-1). As shown in OSHA's references to paragraph (d) in the preamble to the final rule, the final economic analysis, and cross references in the regulatory text and appendix D, OSHA intended paragraphs (d)(1)(i)(A) and (d)(1)(i)(B) to be designated (d)(1)(i) and (d)(1)(ii), respectively (see, e.g., 89 FR 44278). To ensure that the regulatory text is clear and consistent with the agency's intent, OSHA is rearranging and renumbering paragraph (d)(1) by incorporating the text currently designated as (d)(1)(ii) into (d)(1) and renumbering the provisions currently designated as (d)(1)(i)(A) and (d)(1)(i)(B) to (d)(1)(i) and (d)(1)(ii), respectively.

Second, a phrase regarding transmission of labels by electronic or other technological means was inadvertently included in paragraph (f)(11). As OSHA's discussion in the preamble of the final rule shows (89 FR 44293), the agency did not intend to include this phrase in paragraph (f)(11) and is therefore removing it.

The remainder of the errors corrected in this document are in the appendices. For instance, in appendix B, the contents of table B.13.1 were inadvertently placed as table B.12.1. OSHA only intended to change table B.12.1 as described in the preamble to the final rule (89 FR 44236). Therefore, the agency is correcting the text of table B.12.1 to align with what it proposed and stated it was finalizing in the preamble.

Additionally, OSHA inadvertently inserted hazard statements for aerosols instead of hazard statements for chemical under pressure in appendix C, table C.4.16. Therefore, OSHA is updating the label elements in C.4.16, Chemical Under Pressure, to conform with the GHS, Rev. 8, consistent with the agency's discussion of its intent to add the hazard communication elements for chemical under pressure (under the aerosol hazard class) in the summary and explanation to the final rule (89 FR 44323-44324). OSHA is also removing extra slashes that were inadvertently inserted in the prevention column of that table.

Correction Summary

The following table contains a summary of the corrections being made to the Hazard Communication Standard. The changes are listed by the paragraph or appendix they are located in.

Standard | Correction or technical amendment
§ 1910.1200, paragraph (d)(1) | Change paragraph (d)(1)(i) to paragraph (d)(1) and incorporate (d)(1)(ii) into (d)(1); renumber (d)(1)(i)(A) to be (d)(1)(i) and (d)(1)(i)(B) to be (d)(1)(ii).
§ 1910.1200, paragraph (f)(11)(i) | Remove the words “either” and “or, with the agreement of the receiving entity, transmit the labels by electronic or other technological means” in the last phrase of (f)(11)(i).
§ 1910.1200, appendix A, table A.1.1 | Dermal Category 1 value of “≤5” is corrected to read “≤50”.
§ 1910.1200, appendix A, A.1.3.6.2.4 | Change the symbol before the 10% in the second sentence of A.1.3.6.2.4 from ≤ (less than or equal to) to > (greater than).
§ 1910.1200, appendix A, table A.2.2 | Rename the table to “Skin irritant category” and reinsert phrase “least 2 animals, particularly taking into account alopecia (limited area), hyperkeratosis, hyperplasia . . .” into the paragraph.
§ 1910.1200, appendix A, table A.2.3 | Reinsert phrase “data are available and” into “Where data are available and the sub-categories of skin . . .” in the text of the note to the table.
§ 1910.1200, appendix A, table A.7.1 | Category 1, Category 2, and additional category for effects on or via lactation reproductive toxicity values of “≥0.01%” are corrected to read “≥0.1%.”
§ 1910.1200, appendix B, table B.3.1 | Add “or” after the first condition under category 3, to read “(1) The chemical does not meet the criteria for Categories 1 and 2; or”.
§ 1910.1200, appendix B, table B.12.1 | Replace table with the prior version of table B.12.1 apart from also removing “equal to or” from Category 3.
§ 1910.1200, appendix C, C.4.16 | Remove “/” in all locations in prevention column of all C.4.16 tables. Replace the tables for Chemical Under Pressure in C.4.16 to align with GHS Revision 8 hazard statements. For Category 1, revise hazard statement to read: “Extremely flammable chemical under pressure. May explode if heated.”
| For Category 2, revise hazard statement to read: “Flammable chemical under pressure. May explode if heated.” For Category 3, revise hazard statement to read: “Chemical under pressure: may explode if heated.”

II. Exemption From Notice-and-Comment Procedures

OSHA has determined that these corrections are not subject to the procedures for public notice and comment specified in section 4 of the Administrative Procedures Act (5 U.S.C. 553) or section 6(b) of the Occupational Safety and Health Act of 1970 (29 U.S.C. 655(b)). This rulemaking only corrects errors of a minor, mainly typographical nature and makes a few technical amendments that do not affect or change any existing rights or obligations, and no stakeholder is likely to object to these changes. Therefore, OSHA has determined that there is good cause that public notice and comment are unnecessary within the meaning of 5 U.S.C. 553(b)(4)(B), 29 U.S.C. 655(b), and 29 CFR 1911.5. For the same reasons, the Agency finds good cause under 5 U.S.C. 553(d)(3) to make the amendment effective upon publication.

List of Subjects in 29 CFR Part 1910

Chemicals, Diseases, Explosives, Flammable materials, Gases, Hazardous substances, Incorporation by reference, Labeling, Occupational safety and health, Safety, Signs and symbols.

Accordingly, 29 CFR part 1910 is corrected by making the following correcting amendments:

PART 1910—OCCUPATIONAL SAFETY AND HEALTH STANDARDS

1. Add authority citation for part 1910 to read as follows:

Authority: 33 U.S.C. 941; 29 U.S.C. 653, 655, 657; Secretary of Labor's Order No. 12-71 (36 FR 8754); 8-76 (41 FR 25059), 9-83 (48 FR 35736), 1-90 (55 FR 9033), 6-96 (62 FR 111), 3-2000 (65 FR 50017), 5-2002 (67 FR 65008), 5-2007 (72 FR 31160), 4-2010 (75 FR 55355), 1-2012 (77 FR 3912), or 08-2020 (85 FR 58393); 29 CFR part 1911; and 5 U.S.C. 553, as applicable.

2. Amend § 1910.1200 as follows:

a. Revise and republish paragraphs (d)(1) and (f)(11)(i);

b. In appendix A, revise and republish table A.1.1, paragraph A.1.3.6.2.4, table A.2.2, table A.2.3 and table A.7.1;

c. In appendix B, revise and republish table B.3.1 and table B.12.1; and

d. In appendix C, revise and republish table C.4.16;

The revisions read as follows:

§ 1910.1200 Hazard communication.

* * * * *

(d)(1) Chemical manufacturers and importers shall evaluate chemicals produced in their workplaces or imported by them to classify the chemicals in accordance with this section. Employers are not required to classify chemicals unless they choose not to rely on the classification performed by the chemical manufacturer or importer for the chemical to satisfy this paragraph (d)(1). For each chemical, the chemical manufacturer or importer shall determine the hazard classes, and where appropriate, the category of each class that apply to the chemical being classified. The hazard classification shall include any hazards associated with the chemical's intrinsic properties including:

(i) A change in the chemical's physical form; and

(ii) Chemical reaction products associated with known or reasonably anticipated uses or applications.

* * * * *

(f) * * *

(11) Label updates. (i) Chemical manufacturers, importers, distributors, or employers who become newly aware of any significant information regarding the hazards of a chemical shall revise the labels for the chemical within six months of becoming aware of the new information and shall ensure that labels on containers of hazardous chemicals shipped after that time contain the new information. For chemicals that have been released for shipment and are awaiting future distribution, chemical manufacturers, importers, distributors, or employers have the option not to relabel those containers; however, if they do not relabel the containers, they must provide the updated label for each individual container with each shipment.

* * * * *

Appendix A to § 1910.1200—Health Hazard Criteria (Mandatory)

* * * * *

Table A.1.1—Acute Toxicity Estimate (ATE) Values and Criteria for Acute Toxicity Hazard Categories
Exposure route | Category 1 | Category 2 | Category 3 | Category 4
Oral (mg/kg bodyweight) | ATE ≤ 5 | >5 ATE ≤ 50 | >50 ATE ≤ 300 | >300 ATE ≤ 2000
see: Note (a)
Note (b)
Dermal (mg/kg bodyweight) | ATE ≤ 50 | >50 ATE ≤ 200 | >200 ATE ≤ 1000 | >1000 ATE ≤ 2000
see: Note (a)
Note (b)
Inhalation—Gases (ppmV) | ATE ≤ 100 | >100 ATE ≤ 500 | >500 ATE ≤ 2500 | >2500 ATE ≤ 20000
see: Note (a)
Note (b)
Note (c)
Inhalation—Vapors (mg/l) | ATE ≤ 0.5 | >0.5 ATE ≤ 2.0 | >2.0 ATE ≤ 10.0 | >10.0 ATE ≤ 20.0
see: Note (a)
Note (b)
Note (c)
Note (d)
Inhalation -Dusts and Mists (mg/l) | ATE ≤ 0.05 | >0.05 ATE ≤ 0.5 | >0.5 ATE ≤ 1.0 | >1.0 ATE ≤ 5.0
see: Note (a)
Note (b)
Note (c)
Note: Gas concentrations are expressed in parts per million per volume (ppmV).
Notes to table A.1.1:
(a) The acute toxicity estimate (ATE) for the classification of a substance is derived using the LD50/LC50 where available;
(b) The acute toxicity estimate (ATE) for the classification of a substance or ingredient in a mixture is derived using:
(i) the LD50/LC50 where available. Otherwise,
(ii) the appropriate conversion value from table 1.2 that relates to the results of a range test, or
(iii) the appropriate conversion value from table 1.2 that relates to a classification category;
(c) Inhalation cut-off values in the table are based on 4 hour testing exposures. Conversion of existing inhalation toxicity data which has been generated according to 1 hour exposure is achieved by dividing by a factor of 2 for gases and vapors and 4 for dusts and mists;
(d) For some substances the test atmosphere will be a vapor which consists of a combination of liquid and gaseous phases. For other substances the test atmosphere may consist of a vapor which is nearly all the gaseous phase. In these latter cases, classification is based on ppmV as follows: Category 1 (100 ppmV), Category 2 (500 ppmV), Category 3 (2500 ppmV), Category 4 (20000 ppmV).
The terms “dust”, “mist” and “vapor” are defined as follows:
(i) Dust: solid particles of a substance or mixture suspended in a gas (usually air);
(ii) Mist: liquid droplets of a substance or mixture suspended in a gas (usually air);
(iii) Vapor: the gaseous form of a substance or mixture released from its liquid or solid state.

* * * * *

A.1.3.6.2.4 If the total concentration of the relevant ingredient(s) with unknown acute toxicity is ≤10% then the formula presented in A.1.3.6.1 must be used. If the total concentration of the relevant ingredient(s) with unknown acute toxicity is >10%, the formula presented in A.1.3.6.1 is corrected to adjust for the percentage of the unknown ingredient(s) as follows:

* * * * *

Table A.2.2—Skin Irritation Category ᵃ
| Criteria
Irritant (Category 2) | (1) Mean score of ≥2.3 ≤ 4.0 for erythema/eschar or for edema in at least 2 of 3 tested animals from grading at 24, 48, and 72 hours after patch removal or, if reactions are delayed, from grades on 3 consecutive days after the onset of skin reactions; or
| (2) Inflammation that persists to the end of the observation period normally 14 days in a least 2 animals, particularly taking into account alopecia (limited area), hyperkeratosis, hyperplasia, and scaling; or
| (3) In some cases where there is pronounced variability of response among animals, with very distinctive positive effects related to chemical exposure in a single animal but less than the criteria above.
ᵃ Grading criteria are understood as described in OECD Test Guideline 404.

* * * * *

Table A.2.3—Concentration of Ingredients of a Mixture Classified as Skin Category 1 or 2 That Would Trigger Classification of the Mixture as Hazardous to Skin (Category 1 or 2)
Sum of ingredients classified as: | Concentration triggering classification of a mixture as:: Skin corrosive: Category 1 | Concentration triggering classification of a mixture as:: Skin irritant: Category 2
Skin Category 1 | ≥5% | ≥1% but <5%
Skin Category 2 |  | ≥10%
(10 × Skin Category 1) + Skin Category 2 |  | ≥10%
Note: Where data are available and the sub-categories of skin Category 1 (corrosive) are used, the sum of all ingredients of a mixture classified as sub-category 1A, 1B or 1C respectively, must each be ≥5% in order to classify the mixture as either skin sub-category 1A, 1B or 1C. Where the sum of 1A ingredients is <5% but the sum of 1A+1B ingredients is ≥5%, the mixture must be classified as sub-category 1B. Similarly, where the sum of 1A + 1B ingredients is <5% but the sum of 1A + 1B + 1C ingredients is ≥5% the mixture must be classified as sub-category 1C. Where at least one relevant ingredient in a mixture is classified as Category 1 without sub-categorization, the mixture must be classified as Category 1 without sub-categorization if the sum of all ingredients corrosive to skin is ≥5%.

* * * * *

Table A.7.1—Cut-Off Values/Concentration Limits of Ingredients of a Mixture Classified as Reproductive Toxicants or for Effects on or via Lactation That Trigger Classification of the Mixture
Ingredients classified as: | Cut-off values/concentration limits triggering classification of a mixture as:: Category 1 reproductive toxicant | Cut-off values/concentration limits triggering classification of a mixture as:: Category 2 reproductive toxicant | Cut-off values/concentration limits triggering classification of a mixture as:: Additional category for effects on or via lactation
Category 1 reproductive toxicant | ≥0.1% |  |
Category 2 reproductive toxicant |  | ≥0.1% |
Additional category for effects on or via lactation |  |  | ≥0.1%

* * * * *

Appendix B to § 1910.1200—Physical Hazard Criteria (Mandatory)

* * * * *

Table B.3.1—Criteria for Aerosols
Category | Criteria
1 | Contains ≥85% flammable components and the chemical heat of combustion is ≥30 kJ/g; or
| For spray aerosols, in the ignition distance test, ignition occurs at a distance ≥75 cm (29.5 in), or
| For foam aerosols, in the aerosol foam flammability test
| The flame height is ≥20 cm (7.87 in) and the flame duration ≥2 s; or
| The flame height is ≥4 cm (1.57 in) and the flame duration ≥7 s.
2 | Contains >1% flammable components, or the heat of combustion is ≥20 kJ/g; and for spray aerosols, in the ignition distance test, ignition occurs at a distance ≥15 cm (5.9 in), or in the enclosed space ignition test, the
| Time equivalent is ≤300 s/m³; or
| Deflagration density is ≤300 g/m³.
| For foam aerosols, in the aerosol foam flammability test, the flame height is ≥4 cm and the flame duration is ≥2 s and it does not meet the criteria for Category 1.
3 | (1) The chemical does not meet the criteria for Categories 1 and 2; or
| (2) The chemical contains ≤1% flammable components (by mass) and has a heat of combustion <20 kJ/g.
Note 1: Flammable components do not include pyrophoric, self-heating or water-reactive chemicals.
Note 2: Aerosols do not fall additionally within the scope of flammable gases, gases under pressure, flammable liquids, or flammable solids. However, depending on their contents, aerosols may fall within the scope of other hazard classes.
Note 3: Aerosols containing more than 1% flammable components or with a heat of combustion of at least 20 kJ/g, which are not submitted to the flammability classification procedures in this appendix shall be classified as Category 1.

* * * * *

Table B.12.1—Criteria for Chemicals Which, in Contact With Water, Emit Flammable Gases
Category | Criteria
1 | Any chemical which reacts vigorously with water at ambient temperatures and demonstrates generally a tendency for the gas produced to ignite spontaneously, or which reacts readily with water at ambient temperatures such that the rate of evolution of flammable gas is equal to or greater than 10 liters per kilogram of chemical over any one minute.
2 | Any chemical which reacts readily with water at ambient temperatures such that the maximum rate of evolution of flammable gas is equal to or greater than 20 liters per kilogram of chemical per hour, and which does not meet the criteria for Category 1.
3 | Any chemical which reacts slowly with water at ambient temperatures such that the maximum rate of evolution of flammable gas is greater than 1 liter per kilogram of chemical per hour, and which does not meet the criteria for Categories 1 and 2.
Note: Classification of solid chemicals shall be based on tests performed on the chemical as presented. If, for example, for the purposes of supply or transport, the same chemical is to be presented in a physical form different from that which was tested and which is considered likely to materially alter its performance in a classification test, classification must be based on testing of the chemical in the new form.

* * * * *

Appendix C to § 1910.1200—Allocation of Label Elements (Mandatory)

* * * * *

* * * * *

III. Authority and Signature

Douglas L. Parker, Assistant Secretary of Labor for Occupational Safety and Health, authorized the preparation of this document. It is issued under the authority of sections 4, 6, and 8 of the Occupational Safety and Health Act of 1970 (29 U.S.C. 653, 655, 657); 5 U.S.C. 553; Section 304, Clean Air Act Amendments of 1990 (Pub. L. 101-549, reprinted at 29 U.S.C.A. 655 Note); Section 41, Longshore and Harbor Workers' Compensation Act (33 U.S.C. 941); Section 107, Contract Work Hours and Safety Standards Act (40 U.S.C. 3704); Section 1031, Housing and Community Development Act of 1992 (42 U.S.C. 4853); Section 126, Superfund Amendments and Reauthorization Act of 1986, as amended (reprinted at 29 U.S.C.A. 655 Note); Secretary of Labor's Order No. 8-2020 (85 FR 58393-94); and 29 CFR part 1911.

Signed at Washington, DC, on September 30, 2024.
Douglas L. Parker,
Assistant Secretary of Labor for Occupational Safety and Health.

[FR Doc. 2024-23144 Filed 10-8-24; 8:45 am]

BILLING CODE 4510-26-P